DEPARTMENT OF AGRICULTURE

DEPARTMENT OF HEALTH AND HUMAN SERVICES

Announcement of Intent To Establish the 2020 Dietary Guidelines Advisory Committee and Solicitation of Nominations for Membership

AGENCY: U.S. Department of Agriculture (USDA), Food, Nutrition and Consumer Services (FNCS) and Research, Education and Economics (REE); and U.S. Department of Health and Human Services (HHS), Office of the Assistant Secretary for Health.

ACTION: Notice; correction.

SUMMARY: The Departments of Agriculture and Health and Human Services published a document in the Federal Register of September 6, 2018 concerning solicitation of nominations for membership on the 2020 Dietary Guidelines Advisory Committee. The document contained incorrect dates.

FOR FURTHER INFORMATION CONTACT: Eve Stoody (telephone 703-305-7600), Center for Nutrition Policy and Promotion, 3101 Park Center Drive, Room 1034, Alexandria, Virginia 22302, or, Richard Olson (telephone 240-453-8280), Office of Disease Prevention and Health Promotion, 1101 Wootton Parkway, Suite LL100, Rockville, Maryland 20852. Additional information is available on the internet at www.dietaryguidelines.gov.

SUPPLEMENTARY INFORMATION:

Correction

In the Federal Register of September 6, 2018, in FR Doc. 2018-19302, on page 45206, in the first column, correct the DATES caption to read:

Nominations must be submitted by midnight Eastern Time on October 6, 2018.

Dated: September 7, 2018.
Donald Wright,
Deputy Assistant Secretary for Health, Office of Disease Prevention and Health Promotion, Office of the Assistant Secretary for Health, U.S. Department of Health and Human Services.
Dated: September 11, 2018.
Jackie Haven,
Deputy Director, Center for Nutrition Policy and Promotion, Food and Nutrition Service, U.S. Department of Agriculture.

[FR Doc. 2018-20013 Filed 9-13-18; 8:45 am]

BILLING CODE 3410-30-P